DEPARTMENT OF AGRICULTURE

Forest Service

Stanislaus National Forest, CA; Notice of Intent To Prepare an Environmental Impact Statement for Public Wheeled Motorized Travel Management

AGENCY: Forest Service, USDA.

ACTION: Notice of intent to prepare an environmental impact statement.

SUMMARY: The Stanislaus National Forest (STF) will prepare an environmental impact statement disclosing the impacts of the following proposed actions:

1. Add approximately 126.2 miles of existing unauthorized routes to the National Forest System (NFS) of trails open to public wheeled motorized use.

2. Add approximately 0.03 miles of unauthorized routes to the NFS of roads open to public wheeled motorized use.

3. Convert approximately 16.3 miles of existing NFS roads to NFS trails open to public wheeled motorized use.

4. Change approximately 11.6 miles of existing NFS roads closed to public wheeled motorized use to NFS roads open to public wheeled motorized use.

5. Change approximately 24.5 miles of existing NFS roads open to public wheeled motorized use to NFS roads closed to public wheeled motorized use.

6. Change approximately 73.7 miles of existing NFS roads open to highway legal vehicles only to NFS roads open to all public wheeled motorized use.

7. Change approximately 214.2 miles of existing NFS roads open to all public wheeled motorized use to NFS roads open to highway legal vehicles only.

8. Prohibit public motorized travel off of designated NFS roads and trails except where: (a) traveling up to 100 feet off of designated NFS roads and NFS trails for direct access to campsites, parking, woodcutting, or gathering forest products provided that no resource damage occurs and such access is not otherwise prohibited, totaling approximately 2,272.9 miles or, (b) allowed by permit or other authorization, totaling 1.0 miles.

9. Provide for certain seasonal closures to wheeled motorized travel on NFS roads and trails to protect resources, totaling approximately 837.5 miles.

DATES: Comments on the proposed action should be submitted within 45 days of the date of publication of this Notice of Intent. Completion of the draft environmental impact statement is expected in May 2008 and the final environmental impact statement is expected in October 2008.

ADDRESSES: Send written comments to: Stanislaus National Forest, Attn: Motorized Travel; 19777 Greenley Road; Sonora, CA 95370. Electronic comments, in acceptable plain text (.txt), rich text (.rtf), or Word (.doc) formats, may be submitted to comments-pacificsouthwest-stanislaus@fs.fed.us with Subject: Motorized Travel.

FOR FURTHER INFORMATION CONTACT: Sue Warren, Stanislaus National Forest, 19777 Greenley Road; Sonora, CA 95370; phone: (209) 532-3671 ext. 321; e-mail: swarren@fs.fed.us.

SUPPLEMENTARY INFORMATION:

General Background

Over the past few decades, the availability and capability of motorized vehicles, particularly off-highway vehicles (OHVs) and sport utility vehicles (SUVs) has increased tremendously. Nationally, the number of OHV users has climbed sevenfold in the past 30 years, from approximately 5 million in 1972 to 36 million in 2000. The ten states with the largest populations also have the most OHV use. California has 4.5 million OHV recreationists, accounting for almost 11% of the U.S. total (Off-Highway Vehicle Recreation in the United States, Regions, and States: A National Report from the National Survey on Recreation and the Environment (NSRE); Cordell, Betz, and Owens, June 2005). There were 786,914 ATVs and OHV motorcycles registered in 2004, up 330% since 1980. Annual sales of ATVs and OHV motorcycles in California were the highest in the U.S. for the last 5 years. Four-wheel drive vehicle sales had also increased by 1500% to 3,046,866 from 1989 to 2002 in California.

On August 11, 2003, the Pacific Southwest Region of the Forest Service entered into a Memorandum of Intent (MOI) with the California Off-Highway Motor Vehicle Recreation Commission and the Off-Highway Motor Vehicle Recreation Division of the California Department of Parks and Recreation. That MOI set in motion a region-wide effort to “designate OHV roads, trails, and any specifically defined open areas for motorized wheeled vehicles on maps of the 19 National Forests in California by 2007.” On November 9, 2005, the Forest Service published final travel management regulations in the Federal Register (FR Vol. 70, No. 216-Nov. 9, 2005, pp 68264-68291). This final Travel Management Rule requires designation of those roads, trails, and areas that are open to motor vehicle use on National Forests. Designations will be made by class of vehicle and, if appropriate, by time of year. The final rule prohibits the use of motor vehicles off the designated system as well as use of motor vehicles on routes and in areas that are not designated.

Unmanaged Off-Highway Vehicle (OHV) use has resulted in unplanned roads and trails; erosion, watershed and habitat degradation; and impacts to cultural resource sites. Compaction and erosion are the primary effects of OHV use on soils. Riparian areas and aquatic dependent species are particularly vulnerable to OHV use. Unmanaged recreation, including impacts from OHVs, is one of “Four Key Threats Facing the Nation's Forests and Grasslands.” (USDA Forest Service, June 2004).

Forest Background

In accordance with the MOI, the STF completed an inventory of motorized use on NFS lands in 2005 and identified approximately 270 miles of unauthorized routes. The STF then used an interdisciplinary process to conduct travel analysis that included working with the public to determine whether any of the inventoried motorized routes should be proposed for addition to the STF transportation system. Roads and trails that are currently part of the STF transportation system and are open to wheeled motorized vehicle travel will be designated for such use as described below under the Proposed Action. The proposed action focuses only on the prohibition of wheeled motorized vehicle travel off designated routes and needed changes to the STF transportation system, including the addition of unauthorized routes to the STF transportation system and changes to existing motor vehicle restrictions.

The proposed action is being carried forward in accordance with the Travel Management Rule (36 CFR Part 212). Following a decision on this proposal, the STF will publish a Motor Vehicle Use Map (MVUM) identifying all STF roads and trails that are designated for motor vehicle use. The MVUM shall specify the classes of vehicles and, if appropriate, the times of year for which use is designated.

Purpose and Need for Action

Recent travel analysis identified a need to make changes to the NFS of roads and motorized trails. These needs include:

1. There is a need for regulation of unmanaged wheeled motorized vehicle travel by the public. Currently, wheeled motorized vehicle travel by the public is not prohibited off designated routes. As a result, motorized vehicle users have created numerous unauthorized routes. The number of such routes continues to grow each year with unaddressed environmental impacts and safety concerns. The Travel Management Rule, 36 CFR Part 212, provides policy for ending this trend of unauthorized route proliferation and managing the Forest transportation system in a sustainable manner through designation of motorized NFS roads, trails and areas, and the prohibition of cross-country travel.

2. There is a need for limited changes to the National Forest Transportation System to:

2.1 Provide a diversity of wheeled motorized recreation opportunities (4WD, motorcycles, ATVs, passenger vehicles, etc.).

2.2 Provide wheeled motorized access to dispersed recreation opportunities such as camping, hunting, fishing, hiking, horseback riding, etc.

2.3 Protect FS administrative sites and protect hydropower facilities.

It is Forest Service policy to provide a diversity of road and trail opportunities for experiencing a variety of environments and modes of travel consistent with the National Forest recreation role and land capability (FSM 2353.03(2)). In meeting these needs the proposed action must also achieve the following purposes:

a. Avoid impacts to cultural resources.

b. Provide for public safety.

c. Provide for a diversity of recreational opportunities.

d. Assure adequate access to public and private lands.

e. Provide for adequate maintenance and administration of designations based on availability of resources and funding to do so.

f. Minimize damage to soil, vegetation and other forest resources.

g. Avoid harassment of wildlife and significant disruption of wildlife habitat.

h. Minimize conflicts between wheeled motor vehicles and existing or proposed recreational uses of NFS lands.

i. Minimize conflicts among different classes of wheeled motor vehicle uses of NFS lands or neighboring federal lands.

j. Assure compatibility of wheeled motor vehicle use with existing conditions in populated areas, taking into account sound, emissions, etc.

k. Honor valid existing rights of use and access (rights-of-way).

Proposed Action

Based on the stated purpose and need for action, and as a result of the travel analysis process, the STF proposes to change the use of 324 miles of NFS roads and add approximately 142.5 miles to its NFS motorized trails. These changes would adjust the total NFS roads to approximately 3,415 miles and the total NFS motorized trails to 186.2 miles. The proposed action includes the following items:

1. Add approximately 126.2 miles of existing unauthorized routes to the National Forest System (NFS) of trails open to public wheeled motorized use.

2. Add approximately 0.03 miles of unauthorized routes to the NFS of roads open to public wheeled motorized use.

3. Convert approximately 16.3 miles of existing NFS roads to NFS trails open to public wheeled motorized use.

4. Change approximately 11.6 miles of existing NFS roads closed to public wheeled motorized use to NFS roads open to public wheeled motorized use.

5. Change approximately 24.5 miles of existing NFS roads open to public wheeled motorized use to NFS roads closed to public wheeled motorized use.

6. Change approximately 73.7 miles of existing NFS roads open to highway legal vehicles only to NFS roads open to all public wheeled motorized use.

7. Change approximately 214.2 miles of existing NFS roads open to all public wheeled motorized use to NFS roads open to highway legal vehicles only.

8. Prohibit public motorized travel off of designated NFS roads and trails except where: (a) Traveling up to 100 feet off of designated NFS roads and NFS trails for direct access to campsites, parking, woodcutting, or gathering forest products provided that no resource damage occurs and such access is not otherwise prohibited, totaling approximately 2,272.9 miles or, (b) allowed by permit or other authorization, totaling 1.0 miles.

9. Provide for certain seasonal closures to wheeled motorized travel on NFS roads and trails to protect resources, totaling approximately 837.5 miles.

Maps and tables describing in detail both the STF transportation system and the proposed action can be found at http://www.fs.fed.us/r5/stanislaus/projects/ohv. In addition, maps and tables will be available for viewing at: Stanislaus National Forest, 19777 Greenley Road, Sonora, CA 95370; Calaveras Ranger District, PO Box 500 (Highway 4), Hathaway Pines, CA 95233; Groveland Ranger District, 24545 Highway 120, Groveland, CA 95321; Mi-Wok Ranger District, PO Box 100 (24695 Highway 108), Mi-Wuk Village, CA 95346, and Summit Ranger District, #1 Pinecrest Lake Road, Pinecrest, CA 95364.

Responsible Official

Tom Quinn, Forest Supervisor, Stanislaus National Forest, Supervisor's Office, 19777 Greenley Road, Sonora, CA 95370.

Nature of Decision To Be Made

The project area is forestwide (outside of Wilderness and other non-motorized areas). The responsible official will decide whether to adopt and implement the proposed action, an alternative to the proposed action, or take no action to make changes to the existing Stanislaus National Forest Transportation System and prohibit cross country wheeled motorized vehicle travel by the public off the designated system. Previous NEPA decisions that addressed motorized use of NFS roads and trails on three areas on the Forest: The Summit Ranger District, the Interface Trails, and the Granite Watershed Enhancement Project on Groveland, are not being reconsidered at this time.

Once the decision is made, the Stanislaus National Forest will publish a Motor Vehicle Use Map (MVUM) identifying the roads, trails and areas that are designated for motor vehicle use. The MVUM shall specify the classes of vehicles and, if appropriate, the times of year for which use is designated.

Scoping Process

Public participation is important at numerous points during the analysis. The Forest Service seeks information, comments, and assistance from the federal, state, and local agencies and individuals or organizations that may be interested in or affected by the proposed action.

Comments on the proposed action should be submitted within 60 days of the date of publication of this Notice of Intent. The draft EIS is expected to be filed with the Environmental Protection Agency (EPA) and to be available for public review by approximately May 2008. EPA will publish a notice of availability of the draft EIS in the Federal Register. The comment period on the draft EIS will extend 45 days from the date the EPA notice appears in the Federal Register. At that time, copies of the draft EIS will be distributed to interested and affected agencies, organizations, and members of the public for their review and comment. It is very important that those interested in the management of the Stanislaus National Forest participate at that time.

The final EIS is scheduled to be completed in October 2008. In the final EIS, the Forest Service is required to respond to substantive comments received during the comment period that pertain to the environmental consequences discussed in the draft EIS and applicable laws, regulations, and policies considered in making the decision. Substantive comments are defined as “comments within the scope of the proposed action, specific to the proposed action, and have a direct relationship to the proposed action, and include supporting reasons for the responsible official to consider” (36 CFR 215.2). Only those who submit comment during the comment period on the draft EIS are eligible to appeal the subsequent decision under the 36 CFR part 215 regulations.

Comment Requested

This notice of intent initiates the scoping process which guides the development of the environmental impact statement. A draft EIS will be prepared for comment. The comment period on the draft EIS will be 45 days from the date the Environmental Protection Agency publishes the notice of availability in the Federal Register.

Early Notice of Importance of Public Participation in Subsequent Environmental Review

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft environmental impact statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, Section 21.

Dated: November 13, 2007.
Tom Quinn,
Forest Supervisor.

[FR Doc. E7-22571 Filed 11-16-07; 8:45 am]

BILLING CODE 3410-11-P